ENVIRONMENTAL PROTECTION AGENCY

40 CFR Part 52

[CA 095-0237b; FRL-6987-4]

Revisions to the Arizona and California State Implementation Plans, Maricopa County Environmental Services Department, Placer County Air Pollution Control District and South Coast Air Quality Management District

AGENCY: Environmental Protection Agency (EPA).

ACTION: Proposed rule.

SUMMARY: EPA is proposing to approve revisions to the Maricopa County Environmental Services Department (MCESD) portion of the Arizona State Implementation Plan (SIP), and the Placer County Air Pollution Control District (PCAPCD) and South Coast Air Quality Management District (SCAQMD) portions of the California SIP. These revisions concern volatile organic compound (VOC) emissions from Pharmaceutical, Cosmetic and Vitamin Manufacturing Operations, Fiberboard Manufacturing, and Hydrogen Plant Process Vents. We are proposing to approve local rules to regulate these emission sources under the Clean Air Act as amended in 1990 (CAA or the Act).

DATE: Any comments on this proposal must arrive by July 9, 2001.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 1001 “I” Street, Sacramento, CA 95814

Maricopa County Environmental Services Department, 1001 N. Central Avenue, Suite 201, Phoenix, Arizona, 85004-1942

Placer County APCD, DeWitt Center, 11464 “B” Ave., Auburn, CA 95603-2603

South Coast AQMD, 21865 E. Copley Dr., Diamond Bar, CA 91765-4182

FOR FURTHER INFORMATION CONTACT: Ed Addison, Rulemaking Office (Air-4), U.S. Environmental Protection Agency, Region IX, (415) 744-1160.

SUPPLEMENTARY INFORMATION: This proposal addresses the following local rules: MCESD 349—Pharmaceutical, Cosmetic and Vitamin Manufacturing Operations, PCAPCD 229—Fiberboard Manufacturing, and SCAQMD 1189—Hydrogen Plant Process Vents. In the Rules and Regulations section of this Federal Register, we are approving these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: April 27, 2001.
Mike Schulz,
Acting Regional Administrator, Region IX.

[FR Doc. 01-14248 Filed 6-7-01; 8:45 am]

BILLING CODE 6560-50-P